DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Survey of State Underage Drinking Prevention Policies and Practices—(OMB No. 0930-0316)—Revision

The Sober Truth on Preventing Underage Drinking Act (the “STOP Act”) ¹ states that the “Secretary [of Health and Human Services] shall . . . annually issue a report on each state's performance in enacting, enforcing, and creating laws, regulations, and programs to prevent or reduce underage drinking.” The Secretary has delegated responsibility for this report to SAMHSA. Therefore, SAMHSA has developed a Survey of State Underage Drinking Prevention Policies and Practices (the “State Survey”) to provide input for the state-by-state report on prevention and enforcement activities related to underage drinking component of the Annual Report to Congress on the Prevention and Reduction of Underage Drinking (“Report to Congress”).

¹ Public Law 109-422. It is assumed Congress intended to include the District of Columbia as part of the Report to Congress.

The STOP Act also requires the Secretary to develop “a set of measures to be used in preparing the report on best practices” and to consider categories including but not limited to the following:

Category #1: Sixteen ² specific underage drinking laws/regulations enacted at the state level (e.g., laws prohibiting sales to minors; laws related to minors in possession of alcohol);

² Nine additional policies have been added to the Report to Congress pursuant to Congressional appropriations language or the Secretary's authority granted by the STOP Act.

Category #2: Enforcement and educational programs to promote compliance with these laws/regulations;

Category #3: Programs targeted to youths, parents, and caregivers to deter underage drinking and the number of individuals served by these programs;

Category #4: The amount that each state invests, per youth capita, on the prevention of underage drinking broken into five categories: (a) Compliance check programs in retail outlets; (b) Checkpoints and saturation patrols that include the goal of reducing and deterring underage drinking; (c) Community-based, school-based, and higher-education-based programs to prevent underage drinking; (d) Underage drinking prevention programs that target youth within the juvenile justice and child welfare systems; and (e) Any other state efforts or programs that target underage drinking.

Congress' purpose in mandating the collection of data on state policies and programs through the State Survey is to provide policymakers and the public with currently unavailable but much needed information regarding state underage drinking prevention policies and programs. SAMHSA and other Federal agencies that have underage drinking prevention as part of their mandate will use the results of the State Survey to inform federal programmatic priorities. The information gathered by the State Survey will also establish a resource for state agencies and the general public for assessing policies and programs in their own state and for becoming familiar with the programs, policies, and funding priorities of other states.

Because of the broad scope of data required by the STOP Act, SAMHSA relies on existing data sources where possible to minimize the survey burden on the states. SAMHSA uses data on state underage drinking policies from the National Institute of Alcohol Abuse and Alcoholism's Alcohol Policy Information System (APIS), an authoritative compendium of state alcohol-related laws. The APIS data is augmented by SAMHSA with original legal research on state laws and policies addressing underage drinking to include all of the STOP Act's requested laws and regulations (Category #1 of the four categories included in the STOP Act, as described above, page 2).

The STOP Act mandates that the State Survey assess “best practices” and emphasize the importance of building collaborations with federally recognized tribal governments (“tribal governments”). It also emphasizes the importance at the federal level of promoting interagency collaboration and to that end established the Interagency Coordinating Committee on the Prevention of Underage Drinking (ICCPUD). SAMHSA has determined that to fulfill the Congressional intent, it is critical that the State Survey gather information from the states regarding the best practices standards that they apply to their underage drinking programs, collaborations between states and tribal governments, and the development of state-level interagency collaborations similar to ICCPUD.

SAMHSA has determined that data on Categories #2, #3, and #4 mandated in the STOP Act (as listed on page 2) (enforcement and educational programs; programs targeting youth, parents, and caregivers; and state expenditures) as well as states' best practices standards, collaborations with tribal governments, and state-level interagency collaborations are not available from secondary sources and therefore must be collected from the states themselves. The State Survey is therefore necessary to fulfill the Congressional mandate found in the STOP Act.

The State Survey is a single document that is divided into four sections, as follows:

(1) Enforcement programs to promote compliance with underage drinking laws and regulations (as described in Category #2 above, page 2);

(2) Programs targeted to youth, parents, and caregivers to deter underage drinking (as described in Category #3 above, page 2);

(3) State interagency collaboration to implement prevention programs, state best-practice standards, and collaborations with tribal governments (as described above, page 4);

(4) The amount that each state invests on the prevention of underage drinking in the categories specified in the STOP Act (see description of Category #4, above, page 2) and descriptions of any dedicated fees, taxes, or fines used to raise these funds.

The number of questions in each section is as follows:

Section 1: 31 questions

Section 2A: 30 questions ³

³ Note that the number of questions in Section 2A is an estimate. This section asks states to identify their programs that are specific to underage drinking prevention. For each program identified there are six follow-up questions. Based on the average number of programs per state reported in the survey's four year history, it is anticipated that states will report an average of five programs for a total of 30 questions.

Section 2B: 7 questions

Section 2C: 6 questions

Section 2D: 15 questions

TOTAL: 89 questions

It is anticipated that respondents will actually respond to only a subset of this total. This is because the survey is designed with “skip logic,” which means that many questions will only be directed to a subset of respondents who report the existence of particular programs or activities.

This latest version of the survey has been revised slightly. There are no new questions, nor were any deleted. All revisions are for the purpose of clarifying the existing questions. The total number of questions remains the same, so no additional time burden should be placed on the respondents. All questions continue to ask only for readily available data.

The changes can be summarized as follows:

Some global changes have been made; for example, the current HHS and SAMHSA style guides are applied so that “state” and “federal” are not capitalized. In addition, some instruction sentences are put in bold font, in response to frequent questions from respondents for clarification of these questions. These include questions about the time period for which they are asked to report specific data, or the type of prevention programs that should be included in responses.

In addition, the following specific changes are recommended as clarifications or improvements of existing questions:

Part 1, Enforcement:

A question requesting the total number of licensees in the state has been moved up to become the second question. It was previously located in the set of questions about state compliance checks, but was skipped if the respondent answered that the state does do not do compliance checks. The number of licensees is a general piece of information that could be very useful in analyzing survey response data, and therefore should be collected from all states, regardless of whether they conduct compliance checks.

The wording of the question asking for the number of random compliance checks conducted by the state has been changed, and a definition of random checks is included. The current wording is confusing,⁴ and has often elicited an answer that reflects all licenses in the state, rather than the actual number of random checks. Respondents have also requested clarification of the definition of random checks.

⁴ “Please provide number of licensees subject to random compliance checks/decoy operations.”

Part 2A, Programs:

Two changes have been made to shorten the length of program descriptions, in which states describe their underage drinking prevention programs. The program descriptions are the lengthiest portion of the survey response and are significant contributors to the length of the Report to Congress. In addition, the length of the responses may pose a burden on state respondents. The two changes are:

(a) The instructions in the section have been modified to state: “Please briefly describe the program, including primary purpose, population served, and methods used.”

(b) The number of programs reported on has been reduced from 15 to 10. In the 2014 survey, 43 states (84%) reported 10 or fewer programs. The burden on respondents from those eight states that report more than 10 programs could be reduced by limiting the responses to 10 programs.

Part 2D, Expenditures:

In response to the question about expenditures on school-based prevention programs, some respondents have reported all expenditures for K-12, which resulted in artificially inflated data. The following statement has been added to the instructions: “If it is not possible to distinguish funds expended specifically for the prevention of underage drinking from a general fund targeted to an activity or program listed below, please check `These data are not available in my state.' ”

To ensure that the State Survey obtains the necessary data while minimizing the burden on the states, SAMHSA has conducted a lengthy and comprehensive planning process. It has sought advice from key stakeholders (as mandated by the STOP Act) including hosting an all-day stakeholders meeting, conducting two field tests with state officials likely to be responsible for completing the State Survey, and investigating and testing various State Survey formats, online delivery systems, and data collection methodologies.

Based on these investigations, SAMHSA collects the required data using an online survey data collection platform (SurveyMonkey). Links to the four sections of the survey are distributed to states via email. The State Survey is sent to each state governor's office and the Office of the Mayor of the District of Columbia. Based on the experience from the last four years of administering the State Survey, it is anticipated that the state governors will designate staff from state agencies that have access to the requested data (typically state Alcohol Beverage Control [ABC] agencies and state Substance Abuse Program agencies). SAMHSA provides both telephone and electronic technical support to state agency staff and emphasizes that the states are only expected to provide data that is readily available and are not required to provide data that has not already been collected. The burden estimate below takes into account these assumptions.

The estimated annual response burden to collect this information is as follows:

Instrument | Number of respondents | Responses/ respondent | Burden/ response (hrs) | Annual burden (hrs)
State Questionnaire | 51 | 1 | 17.7 | 902.7

Written comments and recommendations concerning the proposed information collection should be sent by September 21, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-20552 Filed 8-19-15; 8:45 am]

BILLING CODE 4162-20-P